NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold twenty-seven meetings of the Humanities Panel, a federal advisory committee, during July, 2016. The purpose of the meetings is for panel review, discussion, evaluation, and recommendation of applications for financial assistance under the National Foundation on the Arts and Humanities Act of 1965.

DATES: See SUPPLEMENTARY INFORMATION section for meeting dates. The meetings will open at 8:30 a.m. and will convene by 5:00 p.m. on the dates specified below.

ADDRESSES: The meetings will be held at the National Endowment for the Humanities at Constitution Center at 400 7th Street SW., Washington, DC 20506.

FOR FURTHER INFORMATION CONTACT: Elizabeth Voyatzis, Committee Management Officer, 400 7th Street SW., Room 4060, Washington, DC 20506; (202)606-8322; evoyatzis@neh.gov.

SUPPLEMENTARY INFORMATION: Pursuant to section 10(a)(2) of the Federal Advisory Committee Act (5 U.S.C. App.), notice is hereby given of the following meetings:

1. Date: July 11, 2016.

This meeting will discuss applications on the subject of British Literature for Fellowships for University Teachers, submitted to the Division of Research Programs.

2. Date: July 12, 2016.

This meeting will discuss applications on the subjects of American History, Social Sciences for the Awards for Faculty grant program, submitted to the Division of Research Programs.

3. Date: July 12, 2016.

This meeting will discuss applications on the subjects of History and Politics for the Awards for Faculty grant program, submitted to the Division of Research Programs.

4. Date: July 18, 2016.

This meeting will discuss applications on the subjects of Arts, Literature, Media, and Communication for the Awards for Faculty grant program, submitted to the Division of Research Programs.

5. Date: July 18, 2016.

This meeting will discuss applications on the subjects of Arts, Literature, and Philosophy for the Awards for Faculty grant program, submitted to the Division of Research Programs.

6. Date: July 19, 2016.

This meeting will discuss applications for Humanities Access Grants, submitted to the Office of Challenge Grants.

7. Date: July 19, 2016.

This meeting will discuss applications on the subject of Philosophy for Fellowships for University Teachers, submitted to the Division of Research Programs.

8. Date: July 19, 2016.

This meeting will discuss applications on the subject of Philosophy for Fellowships for University Teachers, submitted to the Division of Research Programs.

9. Date: July 20, 2016.

This meeting will discuss applications on the subject of American Studies for Fellowships for University Teachers, submitted to the Division of Research Programs.

10. Date: July 20, 2016.

This meeting will discuss applications on the subject of Middle Eastern Studies for Fellowships for University Teachers, submitted to the Division of Research Programs.

11. Date: July 21, 2016.

This meeting will discuss applications for Humanities Access Grants, submitted to the Office of Challenge Grants.

12. Date: July 21, 2016.

This meeting will discuss applications on the subjects of Communication, Media, Rhetoric, and Language for Fellowships for University Teachers, submitted to the Division of Research Programs.

13. Date: July 21, 2016.

This meeting will discuss applications on the subjects of Cinema and Theater Studies for Fellowships for University Teachers, submitted to the Division of Research Programs.

14. Date: July 22, 2016.

This meeting will discuss applications on the subject of American Literature for Fellowships for University Teachers, submitted to the Division of Research Programs.

15. Date: July 22, 2016.

This meeting will discuss applications on the subject of Art History for Fellowships for University Teachers, submitted to the Division of Research Programs.

16. Date: July 25, 2016.

This meeting will discuss applications on the subjects of Music and Dance for Fellowships for University Teachers, submitted to the Division of Research Programs.

17. Date: July 25, 2016.

This meeting will discuss applications for Fellowships for Advanced Social Science Research on Japan, submitted to the Division of Research Programs.

18. Date: July 26, 2016.

This meeting will discuss applications for Humanities Access Grants, submitted to the Office of Challenge Grants.

19. Date: July 26, 2016.

This meeting will discuss applications on the subject of American History for Fellowships for University Teachers, submitted to the Division of Research Programs.

20. Date: July 26, 2016.

This meeting will discuss applications on the subject of American History for Fellowships for University Teachers, submitted to the Division of Research Programs.

21. Date: July 27, 2016.

This meeting will discuss applications on the subject of Religious Studies for Fellowships for University Teachers, submitted to the Division of Research Programs.

22. Date: July 27, 2016.

This meeting will discuss applications on the subjects of Political Science, Urban Studies, and Jurisprudence for Fellowships for University Teachers, submitted to the Division of Research Programs.

23. Date: July 28, 2016.

This meeting will discuss applications on the subjects of Comparative Literature and Literary Theory for Fellowships for University Teachers, submitted to the Division of Research Programs.

24. Date: July 28, 2016.

This meeting will discuss applications on the subjects of German and Slavic Studies for Fellowships for University Teachers, submitted to the Division of Research Programs.

25. Date: July 28, 2016.

This meeting will discuss applications for Humanities Access Grants, submitted to the Office of Challenge Grants.

26. Date: July 29, 2016.

This meeting will discuss applications on the subject of Art History for Fellowships for University Teachers, submitted to the Division of Research Programs.

27. Date: July 29, 2016.

This meeting will discuss applications on the subject of British Literature for Fellowships for University Teachers, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 13, 2016.
Elizabeth Voyatzis,
Committee Management Officer.

[FR Doc. 2016-14243 Filed 6-15-16; 8:45 am]

BILLING CODE 7536-01-P